DEPARTMENT OF DEFENSE

Office of the Secretary

Advisory Panel on Department of Defense Capabilities for Support of Civil Authorities After Certain Incidents

AGENCY: Office of the Assistant Secretary of Defense (Homeland Defense and Americas' Security Affairs), DoD.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the Advisory Panel on Department of Defense Capabilities for Support of Civil Authorities after Certain Incidents (hereinafter referred to as the Advisory Panel) will meet on November 23 and 24, 2009. The November 23 meeting is closed to the public. Subject to the availability of space, the November 24 meeting is open to the public.

DATES: The closed meeting will be held on Monday, November 23, 2009, from 1 p.m. to 5 p.m. Mountain Standard Time (hereinafter referred to as MST).

The open meeting will be held on Tuesday, November 24, 2009, from 8:30 a.m. to 12:30 p.m. MST.

ADDRESSES: • November 23 Session: Headquarters, U.S. Northern Command, Peterson Air Force Base, Colorado (Note: This session of the meeting is closed to the public. See SUPPLEMENTARY INFORMATION for more information.)

• November 24 Session: Doolittle Hall—Association of Graduates Building, 3116 Academy Drive, U.S. Air Force Academy, CO 80840-4475, Phone: (719) 472-0300. For additional information on the meeting facility, contact Major Joseph M. Howard, Phone: (719) 333-4163. (Note: This session of the meeting is open to the public. Members of the public who plan to attend should arrive at the Air Force Academy in sufficient time to present photo identification to security personnel at the gate. Vehicles may also be subject to search. See SUPPLEMENTARY INFORMATION for more information.)

FOR FURTHER INFORMATION CONTACT: Michael Wermuth, Co-Principal Investigator, RAND Corporation, 1200 South Hayes Street, Arlington, Virginia 22202, phone (703) 413-1100, x5414; Wermuth@rand.org.

SUPPLEMENTARY INFORMATION:

Purpose of the Meeting

• November 23 Session: The purpose of this session of the meeting is to obtain classified briefings on and engage in discussion about the activities of U.S. Northern Command that relate to the panel's congressionally mandated tasks.

• November 24 Session: The purpose of this session is to obtain information on the role of the Defense Coordinating Officer (DCO); and on the mission and activities of the U.S. Marine Corps Chemical-Biological Incident Response Force (CBIRF), the National Guard Chemical, Biological, Radiological, Nuclear, and Conventional High-Explosives Enhanced Force Package (CERFP), and National Guard Civil Support Team (CST). The panel will also discuss research topics and future meetings.

Agenda

November 23 Session

Classified briefings and discussion with U.S. Northern Command leadership and staff.

November 24 Session

Briefing and Discussion on DCO.

Briefing by the Subpanel on Plans and Programs for Training and Equipping on CBIRF, CERFP, and CST.

Briefings by other Subpanels on activities (if any) since the September 2009 full panel meeting.

Status of Research Topics.

Discussion of Future Meetings (including witnesses).

Public Statements (if any).

Public's Accessibility to the Meeting

• November 23 Session: Pursuant to 5 U.S.C. 552b, and 41 CFR 102-3.155, the Department of Defense has determined that the November 23 session of the meeting shall be closed to the public. Per delegated authority by the Under Secretary of Defense (Policy), the Assistant Secretary of Defense for Homeland Defense and Americas' Security Affairs, Dr. Paul Stockton, in consultation with his legal advisor, has determined in writing that the public interest requires that the November 23 session of this meeting be closed to the public because it will be concerned with matters listed in section 552b(c)(1) of title 5, U.S.C.

• November 24 Session: Pursuant to 5 U.S.C. 552b and 41 CFR 102-3.140 through 102-3.165, and the availability of space, the November 24 session of the meeting is open to the public. Seating is on a first-come basis.

Advisory Panel's Designated Federal Officer

Catherine Polmateer, telephone: 703-697-6370, OASD(HD&ASA), Resources Integration, 2600 Defense Pentagon, Washington, DC 20301-2600, e-mail: Catherine.Polmateer@osd.mil.

Advisory Panel's Points of Contact at the Federally Funded Research and Development Center (FFRDC)

Michael Wermuth, Co-Principal Investigator, telephone 703-413-1100, x5414, e-mail: Wermuth@rand.org; or Gary Cecchine, Co-Principal Investigator, telephone 703-413-1100, x5319, e-mail: Cecchine@rand.org; The RAND Corporation, 1200 South Hayes Street, Arlington, Virginia 22202.

Written Statements

Pursuant to 41 CFR 102-3.105(j) and 102-3.140, and section 10(a)(3) of the Federal Advisory Committee Act of 1972 (FACA), the public or interested organizations may submit written statements to the Advisory Panel about its mission and functions. Written statements may be submitted at any time or in response to the stated agenda of a planned meeting of the Advisory Panel.

All written statements shall be submitted to the Designated Federal Officer for the Advisory Panel, and this individual will ensure that the written statements are provided to the membership for their consideration. Contact information for the Designated Federal Officer is provided in this notice (see Advisory Panel's Designated Federal Officer) or can be obtained from the GSA's FACA Database: https://www.fido.gov/facadatabase/public.asp.

Written statements being submitted in response to the agenda mentioned in this notice must be received by the Designated Federal Officer no later than 10 a.m., Eastern Standard Time (EST), Wednesday, November 18, 2009. Written statements received after this date may not be provided to or considered by the Advisory Panel until its next meeting.

The Designated Federal Officer will review all timely submissions with the Advisory Panel Chairperson and ensure they are provided to all members of the Advisory Panel before the meeting that is the subject of this notice.

All written statements received by the Designated Federal Officer will be retained as part of the committee's official records. In addition, statements timely submitted in response to a stated agenda of a planned meeting and provided to committee members in preparation for a meeting will be made available to the public during the meeting and posted to the GSA's FACA Database.

Oral Statements

In addition to written statements, and time permitting, the Chairperson of the Advisory Panel may allow Oral Statements by the public to the Members of the Advisory Panel. Any person seeking to address orally the Advisory Panel must submit a request to the Designated Federal Officer no later than 10 a.m., EST, Wednesday, November 18, 2009. Oral statements will be limited to five minutes (or less depending on time available). The Designated Federal Officer will provide timekeeping for oral statements and will notify the Chairperson when a presenter has reached allotted time.

Dated: November 3, 2009.
Mitchell S. Bryman,
Alternate OSD Federal Register Liaison Officer, Department of Defense.

[FR Doc. E9-26810 Filed 11-5-09; 8:45 am]

BILLING CODE 5001-06-P